DEPARTMENT OF THE INTERIOR

Pinedale Anticline Working Group and Task Groups—Notice of Renewal

AGENCY: Bureau of Land Management, Interior.

ACTION: Notice of renewal of the Pinedale Anticline Working Group and Task Groups.

SUMMARY: This notice is published in accordance with Section 9(a)(2) of the Federal Advisory Committee Act of 1972 (Pub. L. 92-463). Following consultation with the General Services Administration, notice is hereby given that the Secretary of the Interior has renewed the Pinedale Anticline Working Group and Task Groups (PAWG). The purpose of the Working Group and Task Groups will be to advise the Bureau of Land Management, Pinedale Field Office Manager, regarding recommendations on matters pertinent to the Bureau of Land Management's responsibilities related to the Pinedale Anticline Environmental Impact Statement and Record of Decision.

Members to the PAWG will be appointed as follows: A representative from the State of Wyoming, Office of the Governor; a representative of the Town of Pinedale (Wyoming); a representative of the oil/gas operators active in the Pinedale Anticline area; a representative of the Sublette County Government (Wyoming); a representative of environmental groups; a representative of the landowners within or bordering the Pinedale Anticline area; a representative of local livestock operators operating within or bordering the Pinedale Anticline area; and two representatives from the public-at-large within or adjacent to the PAWG's jurisdiction.

FOR FURTHER INFORMATION CONTACT: Mr. Dennis Stenger, Pinedale Field Office Manager, Bureau of Land Management, 432 East Mill Street, Pinedale, Wyoming 82941, Phone: (307) 367-5300.

Certification

I hereby certify that the renewal of the Pinedale Anticline Working Group and Task Groups is necessary and in the public interest in connection with the Secretary of the Interior's responsibilities to manage the lands, resources, and facilities administered by the Bureau of Land Management.

Dated: June 23, 2006.
Dirk Kempthorne,
Secretary of the Interior.

[FR Doc. E6-10411 Filed 7-3-06; 8:45 am]

BILLING CODE 4310-22-P